DEPARTMENT OF HEALTH AND HUMAN SERVICES

Centers for Medicare & Medicaid Services

[Document Identifier: CMS-10136, CMS-10116, CMS-10426 and CMS-10406]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement of a previously approved collection; Title of Information Collection: Physician Group Practice Transition Demonstration (PGP-TD) Performance Assessment Tool (“PAT”); Use: The Physician Group Practice (PGP) Demonstration was mandated by section 412 of the Medicare, Medicaid, and SCHIP Benefits Improvement and Protection Act of 2000 and is the precursor to the Medicare Shared Savings Program. Section 1899(k) of the Social Security Act, as added by section 10307(k) of the Affordable Care Act (as amended by section 10307 of the Health Care and Education Reconciliation Act of 2010), states “the Secretary may enter into an agreement with an ACO under the Demonstration under section 1866A, subject to rebasing and other modifications deemed appropriate by the Secretary.” The Demonstration extension is entitled the PGP Transition Demonstration (PGP-TD).

We are seeking reinstatement of the collection of information as it was erroneously discontinued. Only a portion of the information collection requirements previously approved under 0938-0941 should have been discontinued. The collection of information is strictly voluntary in nature and was developed in conjunction with the industry and Demonstration participants. Only organizations that voluntarily respond and elect to participate in the Demonstration will be reporting the measures. Moreover, CMS will not be using this information to regulate or sanction but rather to provide financial incentives for improving the quality of care. The collection of information to be used under this extension is being used to test quality data collection systems and determine incentive payment levels to participating physician group practices participating in the PGP-TD. In addition, this data will be used to evaluate the effectiveness of these payment models and provide insight into the most appropriate way for the agency to collect clinical information. Form Number: CMS-10136 (OCN: 0938-0941); Frequency: Yearly; Affected Public: Private Sector—Business or other for-profits and not-for-profit institutions. Number of Respondents: 10. Number of Responses: 10. Total Annual Hours: 790. (For policy questions regarding this collection contact Heather Grimsley at 410-786-1048. For all other issues call 410-786-1326.)

2. Type of Information Collection Request: Extension of a currently approved collection;

Title of Information Collection: Conditions for Payment of Power Mobility Devices, including Power Wheelchairs and Power-Operated Vehicles; Use: CMS is renewing our request for approval for the collection requirements associated with the final rule, CMS-3017-F (71 FR 17021), which was published on April 5, 2006 and became effective on June 5, 2006. The regulation CMS-3017-F finalized provisions set forth in the interim final regulation (70 FR 50940) published on August 26, 2005. This final rule conforms our regulations to section 302(a)(2)(E)(iv) of the Medicare Prescription Drug, Improvement, and Modernization Act of 2003. This rule defines the term power mobility devices (PMDs) as power wheelchairs and power operated vehicles (POVs or scooters). It sets forth revised conditions for Medicare payment of PMDs and defines who may prescribe PMDs. This rule also requires a face-to-face examination of the beneficiary by the physician or treating practitioner, a written prescription, and receipt of pertinent parts of the medical record by the supplier within 45 days after the face-to-face examination that the durable medical equipment (DME) suppliers maintain in their records and make available to CMS and its agents upon request. Finally, this rule discusses CMS' policy on documentation that may be requested by CMS and its agents to support a Medicare claim for payment. Form Number: CMS-10116 (OCN: 0938-0971); Frequency: Yearly; Affected Public: Private Sector—Business or other for-profits. Number of Respondents: 90,521. Number of Responses: 173,810. Total Annual Hours: 34,762. (For policy questions regarding this collection contact Susan Miller at 410-786-2118. For all other issues call 410-786-1326.)

3. Type of Information Collection Request: New collection; Title of Information Collection: End Stage Renal Disease (ESRD) System Access Request Form; Use: Within CMS, the Office of Clinical Standards and Quality is developing a new suite of systems to support the End Stage Renal Disease (ESRD) program. Due to the sensitivity of the data being collected and reported, CMS must ensure that only authorized personnel have access to data. Personnel are given access to the ESRD systems through the creation of user IDs and passwords within the QualityNet Identity Management System (QIMS); however, once within the system, the system determines the rights and privileges the personnel has over the data within the system.

The sole purpose the End Stage Renal Disease System (ESRD) System Access Request Form is to identify the individual's data access rights once within the ESRD system. This function and the associated data collection is currently being accomplished under “Part B” of the QualityNet Identity Management System Account Form (CMS-10267; OCN: 0938-1050). Once the ESRD System Access Form is approved, the QualityNet Identity Management System (QIMS) Account Form will be revised to remove Part B from the QIMS data collection. Form Number: CMS-10426 (OCN: 0938-New); Frequency: Yearly; Affected Public: Private Sector—Business or other for-profits. Number of Respondents: 25,000. Number of Responses: 25,000. Total Annual Hours: 6,250. (For policy questions regarding this collection contact Michelle Tucker at 410-786-0736. For all other issues call 410-786-1326.)

4. Type of Information Collection Request: New collection; Title of Information Collection: Probable Fraud Measurement Pilot; Use: The Centers for Medicare & Medicaid Services (CMS) is seeking Office of Management and Budget (OMB) approval of the collections required for a probable fraud measurement pilot. The probable fraud measurement pilot would establish a baseline estimate of probable fraud in payments for home health care services in the fee-for-service Medicare program. CMS and its agents will collect information from home health agencies, the referring physicians and Medicare beneficiaries selected in a national random sample of home health claims. The pilot will rely on the information collected along with a summary of the service history of the HHA, the referring provider, and the beneficiary to estimate the percentage of total payments that are associated with probable fraud and the percentage of all claims that are associated with probable fraud for Medicare fee-for-service home health. Form Number: CMS-10406 (OCN: 0938-New); Frequency: Yearly; Affected Public: Individual and Private Sector—Business or other for-profits. Number of Respondents: 6,000. Number of Responses: 6,000. Total Annual Hours: 10,500. (For policy questions regarding this collection contact Kelly Gent at 410-786-0918. For all other issues call 410-786-1326.)

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by May 7, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

Dated: March 1, 2012.
Martique Jones,
Director, Regulations Development Group, Division B, Office of Strategic Operations and Regulatory Affairs.

[FR Doc. 2012-5439 Filed 3-5-12; 8:45 am]

BILLING CODE 4120-01-P